FEDERAL COMMUNICATIONS COMMISSION

47 CFR Part 73

[DA 05-686, MB Docket No. 03-144, RM-10733, RM-10788, RM-10789]

Radio Broadcasting Services; Breckenridge, Crawford, Eagle, Fort Morgan, Greenwood Village, and Gunnison, CO, Laramie, WY, Loveland, Olathe and Strasburg, CO

AGENCY: Federal Communications Commission.

ACTION: Final rule, petition for reconsideration.

SUMMARY: This document grants the Petition for Reconsideration filed by Dana J. Puopolo directed to the Report and Order in this proceeding by allotting Channel 299C3 at Gunnison, Colorado, as its fourth local service. See 69 FR 58840, published October 1, 2004. Channel 299C3 can be allotted to Gunnison, consistent with the minimum distance separation requirements of the Commission's rules provided there is a site restriction of 19.5 kilometers (12.1 miles) northeast at coordinates 38-40-48 NL and 106-46-48 WL. This site restriction will ensure full-spacing to the license site of Station KBKL on Channel 300C at Grand Junction, Colorado. This document also allots Channel 274C3 in lieu of Channel 272C2 at Crawford, as its first local service. Channel 274C3 can be allotted to Crawford in compliance with the minimum distance separation requirements of the Commission's rules provided there is a site restriction of 19.5 kilometers (12.1 miles) northeast at coordinates 38-38-09 NL and 107-34-43 WL. As a result, the Station KVLE(FM) Channel 299A substitution at Gunnison and the site relocation for vacant Channel 270C2 at Olathe is no longer necessary. See SUPPLEMENTARY INFORMATION.

DATES: Effective May 2, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 03-144 adopted March 14, 2005, and released March 16, 2005. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of the Memorandum Opinion and Order in this proceeding in a report to be sent to Congress and the General Accounting Office pursuant to the Congressional Review Act, see 5 U.S.C. 801(a)(1)(A).

This document also grants the Petition for Reconsideration filed by KAGM, LLC, licensee of Station KAGM(FM), Channel 272A, Strasburg,Colorado, On-Air Family, LLC, licensee of Station KBRU-FM, Channel 268C,Fort Morgan, Colorado, Regent Broadcasting of Ft. Collins, Inc., licensee of Station KTRR(FM), Channel 273C2, Loveland, Colorado, NRC Broadcasting,Inc., licensee of Station KSMT(FM), Channel 272A, Breckenridge, Colorado and Station KTUN(FM), Channel 269C1, Eagle, Colorado, and AGM-Nevada,LLC, licensee of Station KARS-FM, Channel 275C1, Laramie, Wyoming by reallotting Channel 272A from Strasburg to Greenwood Village, Colorado, as its first local service, and modifying the license of Station KAGM(FM). Channel 272A can be allotted to Greenwood Village consistent with the Commission's minimum distance separation requirements provided there is a site restriction of 12.5 kilometers (7.7 miles) east of the community. The reference coordinates for Channel 272A at Greenwood Village are 39-37-32 North Latitude and 104-47-47 West Longitude. To ensure continued operational local service at Strasburg, we reallot Channel 268C from Fort Morgan to Strasburg, Colorado, as its first local operational service, and modify the license of Station KBRU-FM to reflect this change. Fort Morgan will continue to receive local service from full-time AM Station KFTM. Channel 268C can be allotted to Strasburg consistent with the Commission's minimum distance separation requirements provided there is a site restriction of 41.9 kilometers (26 miles) east of the community. The reference coordinates for Channel 268C at Strasburg are 39-51-39 North Latitude and 103-51-44 West Longitude. To accommodate the Greenwood Village reallotment, we modify the transmitter sites for Stations KSMT(FM), Channel 272A, Breckenridge, Colorado and Station KTRR(FM), Channel 237C3, Loveland, Colorado. The transmitter site for Station KSMT(FM), Channel 272A, Breckenridge, Colorado can be modified consistent with the Commission's minimum distance separation requirements provided there is a site restriction of 8.4 kilometers (5.2 miles) southwest of the community. The modified license coordinates for Channel 272A at Breckenridge are 39-25-52 North Latitude and 106-06-17 West Longitude. The transmitter site for Station KTRR(FM), Channel 273C2, Loveland, Colorado also can be modified consistent with the Commission's minimum distance separation requirements provided there is a site restriction of 26.1 kilometers (16.2 miles) northeast of the community. The modified license coordinates for Channel 273C2 at Loveland are 40-34-33 North Latitude and 104-52-22 West Longitude. To facilitate Station KSMT(FM) relocation, we modify the license site for Station KTUN(FM), Eagle, Colorado because the requested Channel 269C1 substitution was granted by minor change application. The transmitter site for Station KTUN(FM), Channel 269C1, Eagle, Colorado can be modified consistent with the Commission's minimum distance separation requirements provided there is a site restriction of 12.8 kilometers (7.9 miles) northwest of the community. The modified license coordinates for Channel 269C1 at Eagle are 39-45-15 North Latitude and 106-54-13 West Longitude. Moreover, because the requested Channel 275C1 downgrade at Laramie was also granted by minor change application, we modify the licensed site for Station KARS-FM, Laramie, Wyoming to accommodate Station KTRR-FM relocation. The transmitter site for Station KARS-FM, Channel 275C1, Laramie, Wyoming also can be modified consistent with the Commission's minimum distance separation requirements provided there is a site restriction of 47 kilometers (29.2 miles) south of the community. The modified license coordinates for Channel 275C1 at Laramie are 40-53-55 North Latitude and 105-42-31 West.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Colorado, is amended by removing Channel 272C2 and adding Channel 274C3 at Crawford, removing Fort Morgan, Channel 268C, adding Greenwood Village, Channel 272A, and by removing Channel 299A and adding Channel 272A and Channel 299C3 at Gunnison, removing Channel 272A and adding Channel 268C at Strasburg.

3. Section 73.202(b), the Table of FM Allotments under Nebraska, is amended by removing Channel 267C and adding Channel 267C0 at Bridgeport.

4. Section 73.202(b), the Table of FM Allotments under Wyoming, is amended by removing Channel 275C and adding Channel 275C1 at Laramie.

Federal Communications Commission.
John A. Karousos,
Assistant Chief, Audio Division, Media Bureau.

[FR Doc. 05-6694 Filed 4-4-05; 8:45 am]

BILLING CODE 6712-01-P